DEPARTMENT OF HOUSING AND URBAN DEVELOPMENT

[Docket No. FR-6395-N-04]

Notice of Regulatory Waiver Requests Granted for the Fourth Quarter of Calendar Year 2023

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2023 and ending on December 31, 2023.

FOR FURTHER INFORMATION CONTACT: For general information about this notice, contact Aaron Santa Anna, Associate General Counsel for Legislation and Regulations, Department of Housing and Urban Development, 451 Seventh Street SW, Room 10276, Washington, DC 20410-0500, telephone (202) 708-3055 (this is not a toll-free number). HUD welcomes and is prepared to receive calls from individuals who are deaf or hard of hearing, as well as individuals with speech or communication disabilities. To learn more about how to make an accessible telephone call, please visit https://www.fcc.gov/consumers/guides/telecommunications-relay-service-trs.

For information concerning a particular waiver that was granted and for which public notice is provided in this document, contact the person whose name and address follow the description of the waiver granted in the accompanying list of waivers that have been granted in the fourth quarter of calendar year 2023.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2023 through December 31, 2023. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Additionally, this notice includes waivers made pursuant to the Coronavirus Aid, Relief and Economic Security Act (CARES Act), not previously published in the Federal Register. These waivers are listed separately from other individual waivers within each program office grouping, as CARES Act waivers broadly covered all affected parties rather than individual, case-by-case situations. The lists include additional Memoranda and Notices issued regarding broad CARES Act waivers provided by HUD since the enactment of the Act on March 27, 2020. In addition, the lists provide a short, two- or three-line description of each memo or notice, identifying the specific CARES Act authority and purpose of the waivers addressed therein.

Should HUD receive additional information about waivers granted during the period covered by this report (the fourth quarter of calendar year 2023) before the next report is published (the first quarter of calendar year 2024), HUD will include any additional waivers granted for the fourth quarter in the next report.

Accordingly, information about approved waiver requests pertaining to HUD regulations is provided in the Appendix that follows this notice.

Benjamin Klubes,
Principal Deputy General Counsel.

Appendix

Listing of Waivers of Regulatory Requirements Granted by Offices of the Department of Housing and Urban Development October 1, 2023 Through December 31, 2023

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers and Alternative Requirements Granted by the Office of Community Planning and Development

For further information about the following regulatory waivers, please see the name of the contact person that immediately follows the description of the waiver granted.

• Regulation: 24 CFR 92.214(a)(1) and (a)(6), and 24 CFR 92.504(a).

Project/Activity: The City of Chicago, Illinois requested waivers of 24 CFR 92.214(a)(1) and (a)(6), and 24 CFR 92.504(a) to permit it to invest additional HOME funds to stabilize Harold Washington Apartments, a financially troubled HOME project.

Nature of Requirement: The HOME regulation at 24 CFR 92.504(a) requires that a participating jurisdiction ensure HOME funds are used in accordance with all program requirements and written agreements. In addition, the regulation at 24 CFR 92.214(a)(1) prohibits the payment of HOME funds to capitalize a replacement reserve account and the regulation at 24 CFR 92.214(a)(6) prohibits a participating jurisdiction from investing additional HOME funds (other than tenant-based rental assistance or homeownership assistance) in a previously assisted HOME project during the required period of affordability established by the participating jurisdiction in its written agreement with the owner.

Granted by: Marion M. McFadden, Principal Deputy Assistant Secretary for Community Planning and Development.

Date Granted: December 21, 2023.

Reason Waived: The neighborhood where the project is located has gentrified in recent years and property management staff unionized, which resulted in increases in operating costs. Consequently, the property's rental revenue became insufficient to cover various costs and the property has been operating at a loss since 2019. Given the property's high operating expenses, both a change in unit mix and an investment of additional HOME funds were required to stabilize the property financially. The additional HOME funds will be used to eliminate the private debt and capitalize a replacement reserve to decrease monthly deposits from operating income and will also fund needed capital repairs. The City must amend its written agreement to commit an additional $2,588,212 of HOME funds for the purposes described in the waiver and convert 29 of the 87 low HOME rent units to high HOME rent units. The written agreement must also impose an additional 15-year period of affordability secured by a deed restriction following the expiration of the project's current period of affordability in 2027. The recapitalized project will remain under the new HOME period of affordability until December 4, 2042. The City must provide HUD with a copy of the amended written agreement and revised recorded restrictive covenant. Without this waiver, affordable units would be lost from the housing stock in the City and the City would be required to repay its original HOME investment.

Contact: Virginia Sardone, Director, Office of Affordable Housing Programs, Office of Community Planning and Development. Department of Housing and Urban Development, 451 Seventh Street SW, Room 7160, Washington, DC 20410, telephone (202) 708-2684.

• Regulation: 24 CFR 92.252(d)(l) Utility Allowance Requirements.

Project/Activity: The City of Santa Ana, California requested a waiver of 24 CFR 92.252(d)(1) to allow the use of the utility allowance established by the local public housing agency (PHA) for the Santa Ana Arts Apartments, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted by: Marion M. McFadden, Principal Deputy Assistant Secretary for Community Planning and Development.

Date Granted: December 21, 2023.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development. Department of Housing and Urban Development, 451 Seventh Street SW, Room 7160, Washington, DC 20410, telephone (202) 708-2684.

• Regulation: 24 CFR 92.252(d)(l) Utility Allowance Requirements.

Project/Activity: The City of Dallas, Texas requested a waiver of 24 CFR 92.252(d)(1) to allow the use of the utility allowance established by the local public housing agency (PHA) for Jaipur Lofts, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted by: Marion M. McFadden, Principal Deputy Assistant Secretary for Community Planning and Development.

Date Granted: December 22, 2023.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development. Department of Housing and Urban Development, 451 Seventh Street SW, Room 7160, Washington, DC 20410, telephone (202) 708-2684.

• Regulation: 24 CFR 92.203(a)(1) and (2).

Project/Activity: Projects located in the declared-disaster area for the severe storms and tornadoes in Tennessee (DR-4751-TN).

Nature of Requirement: These sections of the HOME regulation require initial income determinations for HOME beneficiaries by examining source documents covering the most recent two months.

Granted by: Marion M. McFadden, Principal Deputy Assistant Secretary for Community Planning and Development.

Date Granted: December 22, 2023.

Reason Waived: This waiver permits the participating jurisdiction to use self-certification of income, as provided in 24 CFR 92.203(a)(1)(ii), in lieu of source documentation to determine eligibility for HOME assistance of persons displaced by the disaster.

Applicability: These waivers are only available to participating jurisdictions within the declared-disaster area or a State participating jurisdiction of the declared-disaster area to assist those displaced by the disaster. This waiver applies only to families displaced by the disaster (as evidenced by FEMA registration) whose income documentation was destroyed or made inaccessible by the disaster and remains in effect for six months from December 22, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development. Department of Housing and Urban Development, 451 Seventh Street SW, Room 7160, Washington, DC 20410, telephone (202) 708-2684.

• Regulation: 24 CFR 92.209(e), (h)(1), and (i).

Project/Activity: Projects located in the declared-disaster area for the severe storms and tornadoes in Tennessee (DR-4751-TN).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted by: Marion M. McFadden, Principal Deputy Assistant Secretary for Community Planning and Development.

Date Granted: December 22, 2023.

Reason Waived: Waiving these provisions provides the participating jurisdiction with greater flexibility to use tenant-based rental assistance as an emergency housing resource.

Applicability: All of these waivers are only available to a participating jurisdiction within the declared-disaster area or a State participating jurisdiction of the declared-disaster areas providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the PJ, for a period of 24 months after December 22, 2023. The other requirements in 24 CFR 92.209(e) are not waived. The provision of 24 CFR 92.209(h)(1) imposing the maximum amount of TBRA assistance a participating jurisdiction may provide to a family under HOME TBRA is waived for TBRA recipients who are displaced by the disaster, as evidenced by the family's FEMA registration, for a period of 24 months after December 22, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the participating jurisdiction for a period of 24 months after December 22, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development. Department of Housing and Urban Development, 451 Seventh Street SW, Room 7160, Washington, DC 20410, telephone (202) 708-2684.

• Regulation: 24 CFR 92.222(b)(1).

Project/Activity: Any participating jurisdiction located in the declared-disaster area for the severe storms and tornadoes in Tennessee (DR-4751-TN).

Nature of Requirement: Section 220(a) of NAHA (42 U.S.C. 12750(a)) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and 24 CFR 92.222(b) also permit HUD to reduce this matching requirement for a participating jurisdiction located in a declared-disaster area for any funds drawn from a participating jurisdiction's HOME Investment Trust Fund by up to 100 percent during any part of a fiscal year impacted by the disaster.

Granted by: Marion M. McFadden, Principal Deputy Assistant Secretary for Community Planning and Development.

Date Granted: December 22, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022, through September 30, 2024. The waiver also applies to State-funded HOME projects located in declared-disaster areas.

Contact: Virginia Sardone, Director, Office of Affordable Housing Programs, Office of Community Planning and Development. Department of Housing and Urban Development, 451 Seventh Street SW, Room 7160, Washington, DC 20410, telephone (202) 708-2684.

• Regulation: 24 CFR 92.251.

Project/Activity: Projects located in the declared-disaster area for the severe storms and tornadoes in Tennessee (DR-4751-TN).

Nature of Requirement: This provision requires that housing assisted with HOME funds meet property standards based on the activity undertaken, i.e., acquisition of housing including through homebuyer assistance, and state and local standards and codes or model codes for rehabilitation and new construction.

Granted by: Marion M. McFadden, Principal Deputy Assistant Secretary for Community Planning and Development.

Date Granted: December 22, 2023.

Reason Waived: This waiver is required to enable the participating jurisdiction to meet the critical housing needs of families whose housing was damaged and families who were displaced by the disaster.

Applicability: This waiver applies only to housing units located in the declared-disaster areas which were damaged by the disaster and to which HOME funds are committed within two years of December 22, 2023. Property standard requirements are waived for repair of properties damaged by the disaster. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development. Department of Housing and Urban Development, 451 Seventh Street SW, Room 7160, Washington, DC 20410, telephone (202) 708-2684.

• Regulation: 24 CFR 93.151(c).

Project/Activity: Projects located in the declared-disaster area for the severe storms and tornadoes in Tennessee (DR-4751-TN).

Nature of Requirement: This section of the HTF regulation requires initial income determinations for HTF beneficiaries by examining source documents covering the most recent two months.

Granted by: Marion M. McFadden, Principal Deputy Assistant Secretary for Community Planning and Development.

Date Granted: December 22, 2023.

Reason Waived: This waiver permits the grantee to use self-certification of income, as provided in 24 CFR 93.151(d)(2), for HTF assisted units in lieu of source documentation to determine initial eligibility of persons displaced by the disaster.

Applicability: This waiver is only available to the grantee of the declared-disaster area. This waiver applies only to families displaced by the disaster (as evidenced by FEMA registration or other documentation acceptable to the HTF grantee) whose income documentation was destroyed or made inaccessible by the disaster and remains in effect for six months from December 22, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development. Department of Housing and Urban Development, 451 Seventh Street SW, Room 7160, Washington, DC 20410, telephone (202) 708-2684.

• Regulation: 24 CFR 93.400(d)(2).

Project/Activity: The State of South Dakota requested a waiver of 24 CFR 93.400(d)(2) to extend the expenditure deadline for its Fiscal Year 2018 grant funds which are currently committed to the North Star II and Creekside Apartments projects, designated as IDIS activities #4504 and 4505, respectively.

Nature of Requirement: The regulation at 24 CFR 93.400(d)(2) requires HUD to reduce or recapture any fiscal year grant funds in the State's HTF Treasury account that are not expanded within 5 years after the date of HUD's execution of the HTF grant agreement. Therefore, the State must expend its annual HTF allocation within 5 years after the date of HUD's execution of the HTF grant agreement.

Granted by: Marion M. McFadden, Principal Deputy Assistant Secretary for Community Planning and Development.

Date Granted: December 21, 2023.

Reason Waived: The Department determined that there is sufficient good cause to grant a waiver of the requirement in 24 CFR 93.400(d)(2) to reduce or recapture the State's unexpended FY 2018 HTF funds committed to the North Star II and Creekside Apartments projects due to construction delays caused by the COVID-19 public health emergency. This waiver will extend the expenditure deadline for the State's FY 2018 HTF funds until September 12, 2024, which will enable the State to retain HTF funds committed to the projects and prevent the potential loss of affordable units if the projects lose necessary funds for completion.

Contact: Virginia Sardone, Director, Office of Affordable Housing Programs, Office of Community Planning and Development. Department of Housing and Urban Development, 451 Seventh Street SW, Room 7160, Washington, DC 20410, telephone (202) 708-2684.

• Regulation: 24 CFR 91.105(b)(4), (c)(2), and (k); 24 CFR 91.115(b)(4), (c)(2), and (i).

Project/Activity: The State of Tennessee and any HUD Community Planning and Development (CPD) grantee located in the counties included in the declared-disaster area (see DR-4751-TN) seeking to expedite action in response to severe storms and tornadoes, may avail themselves of this waiver upon notification to the Community Planning and Development Director in its respective HUD Field Office. This authority is in effect for grantees in the areas covered by the major disaster declaration under title IV of the Robert T. Stafford Disaster Relief and Emergency Assistance Act (Stafford Act), DR-4751-TN dated December 13, 2023, as may be amended (the “Tennessee declared-disaster areas”) and is limited to facilitating preparation of the FY 2024 consolidated plan and substantial amendments to prior year plans.

Nature of Requirement: The regulations at 24 CFR 91.105(b)(4), (c)(2), and (k); and 24 CFR 91.115(b)(4), (c)(2), and (i) require a 30-day public comment period in the development of a consolidated plan and prior to the implementation of a substantial amendment.

Granted By: Marion McFadden, Principal Deputy Assistant Secretary for Community Planning and Development.

Date Granted: December 22, 2023.

Reason Waived: Several CPD grantees were affected by severe storms and tornadoes that hit Tennessee and received a major disaster declaration on December 13, 2023. As a result of substantial property loss and destruction, many individuals and families residing in the Tennessee declared-disaster areas were displaced from their homes, including beneficiaries of various CPD programs, and families eligible to receive CPD program assistance. The waiver granted will allow grantees to expedite recovery efforts for low- and moderate-income residents affected by the property loss and destruction resulting from this event by allowing grantees to shorten the required public comment period to no less than 7 days.

Contact: Robert C. Peterson, Director, State and Small Cities Division, Office of Community Planning and Development, Department of Housing and Urban Development, 451 Seventh Street SW, Room 7282, Washington, DC 20410, telephone (202) 402-4211.

• Regulation: 24 CFR 91.105(b)(2), (c)(2), and (k); 24 CFR 91.115(b)(2), (c)(2), and (i).

Project/Activity: The State of Tennessee and any HUD Community Planning and Development (CPD) grantee located in the counties included in the Tennessee declared-disaster areas (see DR-4751-TN) seeking to expedite action in response to severe storms and tornadoes, may avail themselves of this waiver upon notification to the Community Planning and Development Director in its respective HUD Field Office. This authority is in effect for grantees within the Tennessee declared-disaster areas and is limited to facilitating preparation of FY 2024 consolidated plan and substantial amendments to prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: December 22, 2023.

Reason Waived: As stated above, several CPD grantees were affected by severe storms and tornadoes that hit Tennessee and received a major disaster declaration on December 13, 2023. As a result of substantial property loss and destruction, many individuals and families residing in the Tennessee declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Office of Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with the severe storms and tornadoes that hit Tennessee and resulted in a disaster declaration on December 13, 2023 (see DR-4751-TN).

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: December 22, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe storms and tornadoes. The waiver will allow CDBG grantees, including grantees providing assistance to evacuees outside the Tennessee declared-disaster areas, to pay for the basic daily needs of individuals and families affected by the severe storms and tornadoes on an interim basis. This authority is in effect through the end of the grantee's 2024 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

Housing Opportunities for Persons With AIDS

Regulatory Waivers Granted Fourth Quarter of Calendar Year 2023

Mega-Waiver for Tennessee Severe Storms and Tornadoes—Housing Opportunities for Persons Withs AIDS (HOPWA) Program

On December 22, 2023, HUD issued a memorandum offering waivers of certain statutory and regulatory requirements associated with several Community Planning and Development (CPD) grant programs to address damage and facilitate recovery from Tennessee severe storms and tornadoes in areas covered by a major disaster declaration under Title IV of the Robert T. Stafford Disaster Relief and Emergency Assistance Act (Stafford Act), DR-4751-TN, dated December 13, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined under table 65 on pages 292-294 of the NSPIRE standards at: www.hud.gov/sites/dfilesfPlHldocuments/6092-N-O5nspire_final_standards.pdf. Grantees must ensure that these units meet HOPWA habitability standards within 60 days of the date of December 22, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: December 22, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on December 22, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: December 22, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, email: lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of December 22, 2023.

Nature of Requirement: Each grantee must maintain records to document compliance with HOPWA requirements, which includes determining the eligibility of a family to receive HOPWA assistance.

Granted By: Marion McFadden, Principal Deputy Assistant Secretary for Community Planning and Development.

Date Granted: December 22, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, email: lisa.a.steinhauer@hud.gov.

I. Mega-Waiver for Tennessee Severe Storms and Tornadoes—CoC and YHDP

On December 22, 2023, Principal Deputy Assistant Secretary Marion McFadden issued a memorandum offering waivers of certain statutory and regulatory requirements associated with several Community Planning and Development (CPD) grant programs to address damage and facilitate recovery from severe storms and tornadoes in areas of Tennessee covered by a major disaster declaration under Title IV of the Robert T. Stafford Disaster Relief and Emergency Assistance Act (Stafford Act), DR-4751-TN, dated December 13, 2023, and as may be amended (the “declared-disaster areas”). The following summarizes the waivers available for CoC Program Recipients.

CoC and YHDP—Permanent Housing Rapid Re-Housing Limit to 24 Months of Rental Assistance

• Regulation: 24 CFR 578.37(a)(1)(ii), 24 CFR 578.37(a)(1)(ii)(C), and 24 CFR 578.51(a)(1)(i).

Project/Activity: For two years from the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: December 22, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street, SW, Room 7262, Washington, DC 20410, telephone (202) 708-4300.

CoC and YHDP—One Year Lease Requirement

• Regulation: 24 CFR 578.3, definition of permanent housing, 24 CFR 578.51(l)(1).

Project/Activity: The one-year lease requirement is waived for two years beginning on the date of the issuance of the waiver for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: December 22, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone (202) 708-4300.

CoC and YHDP—One-Time Limit on Moving Costs

• Regulation: 24 CFR 578.53(e)(2)

Project/Activity: The one-time limit on moving costs of program participants is waived for two years beginning on the date of the issuance of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: December 22, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone (202) 708-4300.

CoC and YHDP—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: December 22, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone (202) 708-4300.

CoC and YHDP—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: December 22, 2023.

Reason Waived: Waiving the requirement to obtain additional evidence of disability as provided in 24 CFR 578.103(a)(4)(i)(B)(4)) as specified below will allow recipient to house people impacted by severe storms and tornadoes in Tennessee by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone (202) 708-4300.

II. Mega-Waiver for Tennessee Severe Storms and Tornadoes—ESG

On December 22, 2023, Principal Deputy Assistant Secretary Marion McFadden issued a memorandum offering waivers of certain statutory and regulatory requirements associated with several Community Planning and Development (CPD) grant programs to address damage and facilitate recovery from severe storms and tornadoes in areas of Tennessee covered by a major disaster declaration under Title IV of the Robert T. Stafford Disaster Relief and Emergency Assistance Act (Stafford Act), DR-4720-VT, dated December 13, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of severe storms and tornadoes in Tennessee; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: December 22, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: December 22, 2023.

Reason Waived: HUD granted this waiver to enable ESG recipients to meet the critical housing needs of individuals and families whose housing was damaged or who were displaced as a result of severe storms and tornadoes in Tennessee. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions listed under table 65 on pages 292-294 of the NSPIRE standards at: www.hud.gov/sites/dfilesfPll-l/documents/6092-NO5nspire_final_standards.pdf; and 3. Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: December 22, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters meet ESG shelter standards within 60 days of the date of the issuance of the waiver.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: December 22, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: December 22, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: (1.) The individual or family lives in the declared-disaster area or was displaced from the declared-disaster area as a result of severe storms and tornadoes in Tennessee; (2.) The individual or family is currently receiving ESG-funded rental assistance as the leaseholder or housing relocation stabilization services or begins receiving rental assistance or housing relocation stabilization services within two years after the date of the issuance of the waiver; (3.) The individual or family chooses to rent a unit through a legally valid sublease or lease with the primary leaseholder for the unit; and (4.) The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: December 22, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone (202) 708-4300.

III. Individual Waivers—CoC Program

• Regulation: 24 CFR 578.3, definition of permanent housing, 24 CFR 578.51(l)(1).

Recipient: Boise City/Ada County Housing Authority.

Grant numbers: ID0002L0E002215 and ID0002L0E002316.

Project/Activity: The one-year lease requirement is waived for Coordinated Housing Opportunities and Individualized Services (CHOIS) permanent supportive housing (PSH) project under grant number ID0002L0E002215beginning on the date of the issuance of the waiver for program participants so long as the initial lease term of all leases is for more than one month, and the leases are renewable for terms that are a minimum of one month long and the leases are terminable only for cause. Subject to funding availability, this waiver will apply to FY2023 CoC grants awarded to the CHOIS PSH project (ID0002L0E002316) to the same extent as provided for ID0002L0E002215, unless otherwise prohibited or provided by HUD.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: December 21, 2023.

Reason Waived: Waiving the one-year lease requirement will allow program participants in the Permanent Supportive Housing programs in Boise City/Ada County Housing Authority cited above to enter into leases that have an initial term of less than one year, so long as the leases have an initial term of more than one month. Several subsidized housing programs in Ada County currently allow leases that are less than one year in length; this waiver will permit new program participants to identify permanent housing units in a tight rental market where many landlords prefer lease terms of less than one year and might are not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone (202) 708-4300.

IV. Individual Waivers—ESG Program

• Regulation: Section V.A.1 of Notice CPD-22-06.

Project/Activity: HUD granted a waiver of the September 30, 2023, deadline that Section V.A.1 of Notice CPD-22-06 established for completing all ESG-CV expenditures, except for certain closeout-related expenditures and expenditures of reallocated ESG-CV amounts, in the November 13, 2023 memorandum: City of Fall River Request for Waiver of ESG-CV Expenditure Deadline Established by Notice CPD-22-06, Section V.A.1. HUD waived the applicable requirements to the extent necessary to specify an alternative requirement that the recipient shall expend all ESG-CV funding by March 31, 2024.

Nature of Requirement: Section V.A.1 of Notice CPD-22-06 established a deadline of September 30, 2023 for completing all ESG-CV expenditures, except for certain closeout-related expenditures and expenditures of reallocated ESG-CV amounts.

Granted By: Marion M. McFadden, Principal Deputy Assistant Secretary for Community Planning and Development.

Date Granted: November 13, 2023.

Reason Waived: Waiving the September 30, 2023 expenditure deadline is necessary to prevent, prepare for, and respond to coronavirus, because the City of Fall River experienced a 385 percent increase in COVID-19 cases between July and September 2023, and the number of people in emergency shelters doubled. The expenditure deadline waiver was needed as part of the city's coronavirus response efforts, not only because of the increasing number of coronavirus infections and hospitalizations but also because of the rise in homelessness in the city of Fall River from 2020 through 2023. The city of Fall River's ability to continue ESG-CV activities, especially homelessness prevention, rapid rehousing, and administration, is time-sensitive due to the anticipated spike in coronavirus cases this winter. Without the extension of the expenditure deadline, the city of Fall River will be less equipped, with significantly less shelter, street outreach, and housing assistance, to respond to the expected surge in infections.

Contact: Norm Suchar, Director, Office of Special Needs Assistance Programs, Office of Community Planning and Development, Department of Housing and Urban Development, 451 Seventh Street SW, Room 7262, Washington, DC 20410, telephone (202) 708-4300.

• Regulation: Section V.A.1 of Notice CPD-22-06.

Project/Activity: HUD granted a waiver of the September 30, 2023, deadline that Section V.A.1 of Notice CPD-22-06 established for completing all ESG-CV expenditures, except for certain closeout-related expenditures and expenditures of reallocated ESG-CV amounts, in the November 20, 2023 memorandum: Town of Islip's Request for Waiver of ESG-CV Expenditure Deadline Established by Notice CPD-22-06, Section V.A.1. HUD waived the applicable requirements to the extent necessary to specify an alternative requirement that the recipient shall expend all ESG-CV funding by March 31, 2024.

Nature of Requirement: Section V.A.1 of Notice CPD-22-06 established a deadline of September 30, 2023 for completing all ESG-CV expenditures, except for certain closeout-related expenditures and expenditures of reallocated ESG-CV amounts.

Granted By: Marion M. McFadden, Principal Deputy Assistant Secretary for Community Planning and Development.

Date Granted: November 20, 2023.

Reason Waived: Waiving the September 30, 2023 expenditure deadline is necessary to prevent, prepare for, and respond to coronavirus, because the rate of COVID infections has increased dramatically in the jurisdiction, and the rate was projected to increase through the fall. The expenditure deadline waiver was needed to complete an elevator renovation to alleviate overcrowding at an emergency shelter serving approximately 300 residents at any given time, thus reducing the spread of COVID. This shelter has been critical to the jurisdiction's COVID response by assisting families who were in congregate settings and giving them the ability to quarantine to mitigate spread of COVID.

Contact: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 219.220(b)(1995) “Payment and Repayment of Operating Assistance” of the Federal Housing Administration's (FHA) regulations”.

Project/Activity: Northside Terrace aka Graham Village Apartments; FHA No. 017-55069F/017-41020; Torrington, Connecticut.

Nature of Requirement: That provision sets forth the requirements that govern the repayment of operating assistance under the Flexible Subsidy Program for Troubled Projects and states “Assistance that has been paid to a project owner under this subpart must be repaid at the earlier of the expiration of the term of the mortgage, termination of mortgage insurance, prepayment of the mortgage, or sale of the project.”

Granted by: Julia R. Gordon, Assistant Secretary for Housing-Federal Housing Commissioner.

Date Granted: December 15, 2023.

Reason Waived: The regulation at 24 CFR 219.220(b)(1995) was waived to permit the deferment of the outstanding balance of the Flexible Subsidy Loans, plus accrued interest, for Northside Terrace, and permit the Owner to repay the loans through a repayment plan. This waiver is effective from the date of issuance. The Project encountered various operational difficulties over the years, and was transferred to John Kelly Housing Corporation, a Connecticut nonprofit corporation (“JKHC”). Despite significant efforts to service the Project's debt over the years, the Project defaulted on its debt in the early 1990s. The rehabilitation, remediation, and preservation transaction proposed by The Community Builder (TCB) will, in addition to preserving the Project as much-needed affordable housing, enable TCB to accomplish environmental remediation of the Project and the rehabilitation of all the Project's ninety-one (91) units in the aggregate amount of approximately $288,870 per unit.

Contact: Maurice Barry, Office of Housing, Department of Housing and Urban Development, 10 Causeway Street, 3rd Floor, Boston, MA 02222, telephone (617) 994-8539.

III. Regulatory Waivers Granted by the Office of Public and Indian Housing

For further information about the following regulatory waivers, please see the name of the contact person that immediately follows the description of the waiver granted.

Regulation: 24 CFR 982.306(d).

Nature of Requirement: The PHA must not approve a unit if the owner is the parent, child, grandparent, grandchild, sister, or brother of any member of the family, unless the PHA determines that approving the unit would provide reasonable accommodation for a family member who is a person with disabilities.

Project/Activity: County of Maui Housing Authority.

Granted By: Richard Monocchio, Principal Deputy Assistant Secretary for Public and Indian Housing.

Date Granted: December 20, 2023.

Reason Waived: With the already low housing inventory in Maui County, coupled with the decreased housing inventory in Lahaina and Kula, and with many families searching for homes, waiving the requirement will allow for both displaced families and families searching for suitable units to be rehoused swiftly, which will alleviate and prevent homelessness. HUD therefore grants the waiver.

Contact: Tesia Anyanaso, Office of Field Operations/Coordination and Compliance Division, Office of Public and Indian Housing 451 Seventh St. SW, Suite 3180, Washington, DC 20410-5000, telephone (202) 402-7026; email to PIH_Disaster_Relief@hud.gov.

• Regulation: 24 CFR 982.503(b)(1)(iv).

Nature of Requirement: At the request of a PHA administering the HCV program under Small Area FMRs under § 888.113(c)(3), HUD may approve an exception payment standard for a Small Area FMR area above the 110 percent of the published FMR in accordance with conditions set forth by Notice in the Federal Register.

Project/Activity: Allegheny County Housing Authority (ACHA).

Granted By: Richard Monocchio, Principal Deputy Assistant Secretary for Public and Indian Housing.

Date Granted: December 14, 2023.

Reason Waived: The ACHA has provided good cause for waiving 24 CFR 982.503(b)(1)(iv). In order to achieve the goals of the Community Choice Demonstration and to provide access to low-poverty neighborhoods for families in their voucher program, the ACHA needs to establish exception payment standards over 110 percent of the SAFMR, where justified by statistically representative housing survey data. Therefore, the Department has determined that there is good cause to waive 24 CFR 982.503(b)(1)(iv).

Contact: Brendan Goodwin, Senior Housing Program Specialist, Office of Public and Indian Housing, Department of Housing and Urban Development, Boston, Room 553, Washington, DC 20410, telephone (202) 402-4390; email brendan.c.goodwin@hud.gov.

• Regulation: 24 CFR 983.53(c), 983.258, 983.211, and 983.301.

Nature of Requirement: Under normal PBV rules, the PHA may select an occupied unit to be included under the PBV HAP Contract only if the unit's occupants are eligible for housing assistance payments (24 CFR 983.53(c)). Also, a PHA must remove a unit from the HAP Contract when no assistance has been paid for 180 days because the family's total tenant payment (TTP) has risen to a level that is equal to or greater than the Gross Rent. (24 CFR 983.258 and § 983.211). 24 CFR 983.301 outlines PBV program requirements on determining the rent to owner.

Project/Activity: Vancouver Housing Authority (VHA).

Granted By: Richard Monocchio, Principal Deputy Assistant Secretary for Public and Indian Housing.

Date Granted: December 12, 2023.

Reason Waived: The requested waiver will allow the VHA to apply the alternative requirements applicable to pre-conversion residents to new admission families. Pursuant to the waiver authority provided at 24 CFR 5.110 and considering the VHA demonstrating the criteria set forth in the RAD Notice has been met, HUD granted the waivers so that the VHA may apply the alternative requirements applicable to pre-conversion residents to new admission families.

Contact: Melissa West, Office of Public and Indian Housing, Department of Housing and Urban Development, Denver, SW, Room 25th Floor, Washington, DC 20410, telephone (303) 672-5352; email: melissa.west@hud.gov.

• Regulation: 24 CFR 983.3.

Nature of Requirement: The regulation defines terms related to Project-Based Vouchers. Specific to the context of this waiver, the regulation defines a “project” as “a single building, multiple contiguous buildings, or multiple buildings on contiguous parcels of land” and “contiguous” as “adjacent to, as well as touching along a boundary or a point.” These definitions help define a PBV requirement that a separate PBV HAP contract be executed for each PBV project.

Project/Activity: New York City Housing Authority (NYCHA).

Granted By: Richard Monocchio, Principal Deputy Assistant Secretary for Public and Indian Housing.

Date Granted: November 14, 2023.

Reason Waived: HUD waived 24 CFR 983.3 so that NYCHA may use the proposed definition of “project” for the redevelopment that includes the 16 sites and 1,698 units identified in NYCHA's request. Through the waiver approval, NYCHA can reduce the number of overall HAP contracts for the redevelopment from 28 to four RAD and non-RAD PBV HAP contracts. This waiver does not apply to any other units in NYCHA's portfolio.

This waiver does not apply to any other units in NYCHA's portfolio.

Contact: Nathaniel Johnson, Office of Public and Indian Housing, Department of Housing and Urban Development, 451 Seventh Street SW, Washington, DC 20410, telephone (202) 402-5156 or Nathaniel.Johnson@hud.gov.

• Regulation: 24 CFR 983.53(c), 983.259, 983.211, and 983.301.

Nature of Requirement: Under normal PBV rules, the PHA may select an occupied unit to be included under the PBV HAP Contract only if the unit's occupants are eligible for housing assistance payments (24 CFR 983.53(c)). Also, a PHA must remove a unit from the HAP Contract when no assistance has been paid for 180 days because the family's total tenant payment (TTP) has risen to a level that is equal to or greater than the Gross Rent. (24 CFR 983.258 and § 983.211). 24 CFR 983.301 outlines PBV program requirements on determining the rent to owner.

Project/Activity: South Portland Housing Authority (SPHA).

Granted By: Richard Monocchio, Principal Deputy Assistant Secretary for Public and Indian Housing.

Date Granted: November 8, 2023.

Reason Waived: The SPHA has demonstrated the monthly two-bedroom RAD Gross Rent is less than 30% of the monthly income of a family of four at the midpoint between the VLI HUD Income Limit and ELI HUD Income Limit for the area in which the Covered Project is located. HUD grants the waivers so that the SPHA may apply the alternative requirements applicable to pre-conversion residents to new admission families for the initial term of the PBV Housing Assistance Payment (HAP) Contract.

Contact: Melissa West, Office of Public and Indian Housing, Department of Housing and Urban Development, Denver, Washington, DC 20410, email: melissa.west@hud.gov.

• Regulation: 24 CFR 983.53(d), 983.152(c), and 983.153(c).

Nature of Requirement: Prohibition on a public housing agency (PHA) from executing an Agreement to Enter into a Housing Assistance Payment (AHAP) contract and attaching Project-Based Voucher (PBV) assistance to units if construction or rehabilitation has commenced after proposal submission.

Project/Activity: Charlottesville Redevelopment and Housing Authority (CRHA).

Granted By: Richard Monocchio, Principal Deputy Assistant Secretary for Public and Indian Housing.

Date Granted: November 8, 2023.

Reason Waived: In August 2023, the CRHA performed lead and asbestos testing, which identified hazards requiring mitigation that needed to be performed immediately for the health and safety of residents in the neighborhood and adjacent community (South First Street Phase One). Additionally, approval of the waiver would also allow the CRHA to meet LIHTC requirements for incurring at least 10 percent of the reasonably accepted basis in the project by a certain threshold date or risk 2 loss of the credit allocation. Considering the good cause presented, HUD grants the waivers.

Contact: Nathaniel Johnson, Office of Public and Indian Housing, Department of Housing and Urban Development, 451 Seventh Street SW, Room 4216, Washington, DC 20410, telephone (202) 402-5156 or Nathaniel.Johnson@hud.gov.

• Regulation: 24 CFR 983.53(d), 983.152(c), and 983.153(c).

Nature of Requirement: Prohibition on a public housing agency from executing an Agreement to Enter into a Housing Assistance Payment (AHAP) contract and attaching Project-Based Voucher (PBV) assistance to units if construction or rehabilitation has commenced after proposal submission.

Project/Activity: Inglewood Housing Authority (IHA).

Granted By: Richard Monocchio, Principal Deputy Assistant Secretary for Public and Indian Housing.

Date Granted: November 21, 2023.

Reason Waived: The IHA tentatively awarded 59 project-based vouchers (PBVs) to Creating Thriving Communities, Limited Liability Company, for the development of Sankofa Place at Centinela, a new construction community that will build 120 units serving low to moderate income households, including households currently experiencing homelessness. The site, located at 400 Centinela Avenue, Inglewood, CA, is currently home to the Church of Latter-Day Saints Chapel, which has been vacant for several years. There are public safety concerns since there have been instances of attempted vandalism with suspected intention to steal water and electricity. The risk of maintaining a site with a vacant building is a hazard when utilities can be tampered with, which could lead to accidents such as explosions from unsafe electrical wiring and water damage if copper pipes are removed. Further, in accordance with the purchase and sale agreement executed in October 2022, Creating Thriving Communities, Limited Liability Company, is required to commence demolition of the existing building on the site within one year of closing. And lastly, the Subsidy Layering Review (SLR) cannot be started until all financing is secured. It was anticipated that financing will be secured between June 2024 and December 2024. IHA explained that allowing the demolition and abatement to proceed before the AHAP is executed will result in the completion of the housing faster and before changes in the economy could render the phases unfinanceable, ultimately prolonging the lack of affordable housing units within the community. It is also important for the safety of the local community that the demolition and site preparation commence as soon as possible to avoid vandalism.

Contact: Nathaniel Johnson, Office of Public and Indian Housing, Department of Housing and Urban Development, 451 Seventh Street SW, Room 4216, Washington, DC 20410, telephone (202) 402-5156 or Nathaniel.Johnson@hud.gov.

• Regulation: 24 CFR 982.505(c)(4) Increase in Payment Standard During Housing Assistance Payment (HAP) Contract Term.

Nature of Requirement: If the payment standard amount is increased during the term of the HAP contract, the increased payment standard amount shall be used to calculate the monthly housing assistance payment for the family beginning at the effective date of the family's first regular reexamination on or after the effective date of the increase in the payment standard amount.

Granted by: Dominique Blom, General Deputy Assistant for Public and Indian Housing.

Reason Waived: The PHAs were authorized to increase the payment standards for families at any time after the effective date of the payment standard increase, rather than waiting for the next regular reexamination. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for earlier implementation of increased payment standards for families helped ensure that families living in rental markets with ongoing fluctuations and disruptions were not adversely impacted by rapidly increasing rents.

Contact: Tesia Anyanaso, Public and Indian Housing, Office of Field Operations/Coordination and Compliance Division, Office of Public and Indian Housing, 451 Seventh Street SW, Suite 3180, Washington, DC 20410-5000, telephone (202) 402-7026; email to PIH_Expedited_Waivers@hud.gov.

PHA code | PHA name | Approved date
AL047 | The Housing Authority of the City of Huntsville | 12/21/2023
AR161 | Conway County Housing Authority | 12/21/2023
AZ001 | City of Phoenix Housing Department | 12/28/2023
CA053 | Kings County Housing Auth | 12/19/2023
CO048 | Englewood Housing Authority | 12/21/2023
CO057 | Sheridan Housing Authority | 12/21/2023
CO095 | Garfield County Housing Authority | 12/21/2023
CT003 | Housing Authority of the City of Hartford | 12/15/2023
CT009 | Middletown Housing Authority | 12/14/2023
CT039 | Housing Authority of the Town of West Hartford | 12/26/2023
FL080 | Palm Beach County Housing Authority | 12/15/2023
FL110 | Walton County Housing Authority | 12/27/2023
IA042 | Centerville Municipal Housing Agency | 12/14/2023
IA129 | Northwest Iowa Regional Housing Authority | 11/15/2023
ID013 | Boise City Housing Authority | 12/15/2023
ID021 | Ada County Housing Authority | 12/15/2023
IL003 | Peoria Housing Authority | 12/21/2023
IL084 | Fulton County Housing Authority | 11/15/2023
IN015 | Housing Authority of South Bend | 12/19/2023
IN017 | Indianapolis Housing Agency | 12/26/2023
IN018 | Housing Authority of the City of Tell City | 12/14/2023
IN021 | Housing Authority of the City of Terre Haute | 11/14/2023
IN023 | Housing Authority of the City of Jeffersonville | 12/28/2023
IN029 | Housing Authority of the City of East Chicago | 12/20/2023
IN035 | Brazil Housing Authority | 12/14/2023
IN037 | Mount Vernon Housing Authority | 12/29/2023
IN055 | Linton Housing Authority | 12/14/2023
IN056 | Seymour Housing Authority | 12/19/2023
IN067 | Knox County Housing Authority | 12/29/2023
IN071 | Housing Authority of the City of Lafayette | 12/21/2023
IN079 | Housing Authority of the City of Elwood | 12/14/2023
IN080 | Housing Authority of the City of Noblesville | 12/28/2023
IN092 | Housing Authority of the City of Logansport | 12/29/2023
IN100 | Housing Authority of the County of St. Joseph | 12/28/2023
KS162 | Johnson County Housing Authority | 11/15/2023
KY169 | Laurel County Section 8 Housing | 12/22/2023
LA003 | Housing Authority of East Baton Rouge | 11/15/2023
LA037 | Housing Authority of the City of Minden | 12/28/2023
MA040 | Dedham Housing Authority | 11/15/2023
M006 | Hagerstown Housing Authority | 12/20/2023
M024 | County Commissioners Charles County | 12/21/2023
ME003 | Portland Housing Authority | 12/28/2023
ME006 | Brunswick Housing Authority | 12/21/2023
ME007 | Auburn Housing Authority | 12/14/2023
ME019 | Bath Housing Authority | 12/15/2023
ME027 | Ellsworth Housing Authority | 12/21/2023
ME901 | Maine State Housing Authority | 12/21/2023
MI036 | Sault Ste Marie Housing Commission | 12/15/2023
MI064 | Ann Arbor Housing Commission | 12/15/2023
MI084 | Boyne City Housing Commission | 12/20/2023
MN003 | HRA of Duluth, Minnesota | 12/12/2023
MN090 | HRA of Red Wing, Minnesota | 11/22/2023
MN158 | NW MN Multi-County HRA | 12/21/2023
MN174 | Housing And Redevelopment Authority of Yellow | 12/29/2023
MO006 | Housing Authority of the City of St. Charles | 12/28/2023
MO007 | Housing Authority of the City of Columbia, MO | 11/14/2023
MO064 | New Madrid | 12/28/2023
MO198 | Boone County Public Housing Agency | 12/14/2023
MO199 | Lincoln County Public Housing Agency | 12/20/2023
MO209 | Housing Authority of the City of Cabool | 12/20/2023
MO210 | Liberty Housing Authority | 12/19/2023
MS005 | The Housing Authority of the City of Biloxi | 12/15/2023
MS301 | Bay Waveland Housing Authority | 12/12/2023
MT001 | Housing Authority of Billings | 12/28/2023
MT004 | Helena Housing Authority | 10/31/2023
MT033 | Missoula Housing Authority | 12/15/2023
MT901 | Montana Department of Commerce | 10/31/2023
NC006 | Housing Authority of the City of High Point | 11/22/2023
NC012 | Housing Authority of the City of Winston-Salem | 12/12/2023
ND010 | Morton County Housing Authority | 10/31/2023
ND011 | Housing Authority of Stutsman County, ND | 11/15/2023
ND016 | Eddy County Housing Authority | 11/15/2023
ND052 | Dickey/Sargent Counties | 11/15/2023
NE157 | Norfolk Housing Agency | 12/28/2023
NH008 | Housing Authority of the City of Rochester NH | 12/19/2023
NJ032 | Rahway Housing Authority | 12/19/2023
NV905 | Nevada Rural Hsg Auth | 12/28/2023
NY041 | Rochester Housing Authority | 12/12/2023
NY079 | Glens Falls Housing Authority | 12/19/2023
NY504 | City of Fulton | 12/28/2023
OH003 | Cuyahoga Metropolitan Housing Authority | 12/12/2023
OH007 | Akron Metropolitan Housing Authority | 12/21/2023
OH020 | Belmont Metropolitan Housing Authority | 10/31/2023
OH032 | Hocking Metropolitan Housing Authority | 12/14/2023
OH033 | Cambridge Metropolitan Housing Authority | 12/12/2023
OH053 | Clinton Metropolitan Housing Authority | 12/14/2023
OH058 | Monroe Metropolitan Housing Authority | 12/14/2023
OH060 | Pike Metropolitan Housing Authority | 12/21/2023
PA052 | Housing Authority of the County of Lebanon | 12/15/2023
PA057 | Housing Authority of the County of Luzerne | 12/12/2023
PA071 | Housing Authority of the County of Berks | 11/15/2023
PA076 | Northampton County Housing Authority | 12/21/2023
PA081 | Lehigh County Housing Authority | 12/15/2023
RI001 | Housing Authority Providence | 12/28/2023
RI005 | The Housing Authority of the City of Newport | 12/21/2023
RI016 | Coventry Housing Authority | 12/26/2023
RI022 | Warren Housing Authority | 12/12/2023
RQ005 | Formerly 901 and 911 | 12/27/2023
RQ006 | Municipality of San Juan | 12/21/2023
RQ012 | Municipality of Aguadilla | 12/21/2023
RQ033 | Municipality of Utuado | 12/19/2023
RQ041 | Municipality of Gurabo | 12/20/2023
RQ061 | Municipality of Cabo Rojo | 12/15/2023
RQ062 | Municipality of Cidra | 12/19/2023
RQ071 | Municipality of Lajas | 12/14/2023
RQ077 | Municipality of Juncos | 12/28/2023
SC022 | Housing Authority of Rock Hill | 12/27/2023
SC023 | Housing Authority of Sumter | 12/14/2023
SC034 | Housing Authority of Myrtle Beach | 12/21/2023
SD016 | Sioux Falls Housing And Redevelopment Commission | 12/21/2023
SD026 | Redfield Housing And Redevelopment Commission | 11/14/2023
SD037 | Milbank Housing & Redevelopment Commission | 11/14/2023
SD043 | Watertown Housing And Redevelopment Commission | 11/22/2023
SD056 | Brookings Housing & Redevelopment Commission | 10/31/2023
SD057 | Mobridge Housing & Redevelopment Commission | 11/14/2023
TN004 | Chattanooga Housing Authority | 11/14/2023
TN903 | Tennessee Housing Development Agency | 11/22/2023
TX493 | Terrell Housing Authority | 10/31/2023
UT009 | Davis Community Housing Authority | 12/19/2023
UT020 | Tooele County Housing Authority | 11/17/2023
UT026 | Logan City Housing Authority | 12/12/2023
UT030 | Bear River Regional Housing Authority | 12/12/2023
WA003 | Housing Authority of the City of Bremerton | 12/21/2023
WA004 | Peninsula Housing Authority | 12/26/2023
WA012 | HA City of Kennewick | 10/31/2023
WA021 | HA City of Pasco And Franklin County | 10/31/2023
WA024 | HA of Island County | 12/22/2023
WA036 | Kitsap County Consolidated Housing Auth | 12/21/2023
WA071 | Housing Authority of Okanogan County | 12/20/2023
WI002 | Housing Authority of the City of Milwaukee | 12/20/2023
WI068 | Wisconsin Rapids Housing Authority | 12/14/2023
WI186 | Brown County Housing Authority | 10/31/2023
WI213 | Housing Authority of Winnebago County, Wi | 12/19/2023
WI222 | Sawyer County Housing Authority | 12/19/2023
WI231 | Ashland County Housing Authority | 12/12/2023
WI237 | Portage County Housing Authority | 11/17/2023
WI245 | Barron County Housing Authority | 12/28/2023

• Regulation: 24 CFR 982.503(b)(1)(iv).

Nature of Requirement: At the request of a PHA administering the HCV program under Small Area FMRs, HUD may approve an exception payment standard for a Small Area FMR area above the 110 percent of the published FMR in accordance with conditions set forth by Notice in the Federal Register.

Granted by: Dominique Blom, General Deputy Assistant for Public and Indian Housing.

Reason Waived: The PHAs were authorized to adopt a payment standard above the basic range, up to 120 percent of the Small Area FMR. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR helped ensure that families living in rental markets with ongoing fluctuations and disruptions were not adversely impacted by rapidly increasing rents, and were able to find rental units with their voucher.

Contact: Tesia Anyanaso, Public and Indian Housing, Office of Field Operations/Coordination and Compliance Division, 451 7th St. SW, Suite 3180, Washington, DC 20410-5000, or email to PIH_Expedited_Waivers@hud.gov.

PHA code | PHA name | 2023 Extension approved
AL160 | Tuskegee Housing Authority | 12/26/2023
CT005 | Housing Authority of the City of New Britain | 12/14/2023
CT009 | Middletown Housing Authority | 12/14/2023
CT027 | Housing Authority of the Town of Stratford | 12/26/2023
CT028 | Vernon Housing Authority | 12/28/2023
FL062 | Pinellas County Housing Authority | 12/14/2023
FL075 | Clearwater Housing Authority | 12/15/2023
FL080 | Palm Beach County Housing Authority | 12/15/2023
IN010 | Housing Authority of the City of Hammond | 12/14/2023
IN029 | Housing Authority of the City of East Chicago | 12/20/2023
IN100 | Housing Authority of the County of St. Joseph | 12/28/2023
MD004 | Housing Opprty Com of Montgomery Co | 12/28/2023
MO210 | Liberty Housing Authority | 12/19/2023
SC023 | Housing Authority of Sumter | 12/14/2023
SC034 | Housing Authority of Myrtle Beach | 12/21/2023
TN004 | Chattanooga Housing Authority | 11/14/2023
UT009 | Davis Community Housing Authority | 12/19/2023
UT031 | Cedar City Housing Authority | 12/15/2023
WA024 | HA of Island County | 12/22/2023

• Regulation: 24 CFR 982.503(c)(1)-(2) and (4)-(5) Exception Payment Standards up to 120% of the FMR.

Nature of Requirement: PHAs may request an exception payment standard of up to 120 percent of the applicable Fair Market Rent and apply it throughout their jurisdiction.

Granted by: Dominique Blom, General Deputy Assistant for Public and Indian Housing.

Reason Waived: The PHAs were authorized to adopt a payment standard above the basic range, up to 120 percent of the Fair Market Rent, and apply it throughout their jurisdiction. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR helped ensure that families living in rental markets with ongoing fluctuations and disruptions were not adversely impacted by rapidly increasing rents, and were able to find rental units with their voucher.

Contact: Tesia Anyanaso, Office of Field Operations/Coordination and Compliance Division, Office of Public and Indian Housing, 451 Seventh St. SW, Suite 3180, Washington, DC 20410-5000, or email to PIH_Expedited_Waivers@hud.gov.

PHA code | PHA name | 2023 Extension approved
AL011 | Housing Authority of the City of Fort Payne | 12/21/2023
AL054 | Florence H/A | 11/15/2023
AL075 | Boaz Housing Authority | 12/15/2023
AL086 | Jefferson County Housing Authority | 12/21/2023
AL129 | Walker County Housing Authority | 11/22/2023
AR010 | NW Regional Housing Authority | 11/17/2023
AR012 | Arkadelphia Housing Authority | 12/28/2023
AR031 | Hot Springs Housing Authority | 12/20/2023
AR161 | Conway County Housing Authority | 12/21/2023
AR200 | Harrison Housing Agency | 12/15/2023
AR225 | Lee County Housing Authority | 12/26/2023
AZ001 | City of Phoenix Housing Department | 12/28/2023
CA004 | Housing Authority of the City of Los Angeles | 12/28/2023
CA053 | Kings County Housing Auth | 12/19/2023
CA062 | City of Alameda Housing Authority | 12/15/2023
CO040 | Delta Housing Authority | 11/14/2023
CO051 | Grand Junction Housing Authority | 12/21/2023
CO095 | Garfield County Housing Authority | 12/21/2023
CT027 | Housing Authority of the Town of Stratford | 12/26/2023
FL009 | West Palm Beach Housing Authority | 12/21/2023
FL110 | Walton County Housing Authority | 12/27/2023
FL147 | Citrus County Housing Services | 11/22/2023
GA009 | Housing Authority of the City of Brunswick | 12/15/2023
HI002 | County of Hawaii | 12/21/2023
IA015 | Low Rent Housing Agency of Burlington | 12/15/2023
IA042 | Centerville Municipal Housing Agency | 12/14/2023
IA087 | City of Dubuque | 12/19/2023
IA126 | Eastern Iowa Regional Housing Authority | 12/19/2023
IA127 | North Iowa Regional Housing Authority | 12/21/2023
IA129 | Northwest Iowa Regional Housing Authority | 11/15/2023
IA130 | Upper Explorerland Regional Housing Authority | 12/28/2023
ID013 | Boise City Housing Authority | 12/15/2023
ID021 | Ada County Housing Authority | 12/15/2023
IL003 | Peoria Housing Authority | 12/21/2023
IL028 | Menard County Housing Authority | 12/14/2023
IL084 | Fulton County Housing Authority | 11/15/2023
IN007 | Kokomo Housing Authority | 12/20/2023
IN015 | Housing Authority of South Bend | 12/19/2023
IN017 | Indianapolis Housing Agency | 12/26/2023
IN018 | Housing Authority of the City of Tell City | 12/14/2023
IN021 | Housing Authority of the City of Terre Haute | 11/14/2023
IN022 | Housing Authority of the City of Bloomington | 11/14/2023
IN023 | Housing Authority of the City of Jeffersonville | 12/28/2023
IN035 | Brazil Housing Authority | 12/14/2023
IN037 | Mount Vernon Housing Authority | 12/29/2023
IN041 | Housing Authority of the City of Marion, In | 12/28/2023
IN055 | Linton Housing Authority | 12/14/2023
IN056 | Seymour Housing Authority | 12/19/2023
IN060 | Housing Authority of the City of Warsaw | 12/14/2023
IN062 | Housing Authority of the City of Decatur | 12/15/2023
IN067 | Knox County Housing Authority | 12/29/2023
IN071 | Housing Authority of the City of Lafayette | 12/21/2023
IN079 | Housing Authority of the City of Elwood | 12/14/2023
IN092 | Housing Authority of the City of Logansport | 12/29/2023
IN100 | Housing Authority of the County of St. Joseph | 12/28/2023
KS041 | Great Bend Housing Authority | 12/21/2023
KS162 | Johnson County Housing Authority | 11/15/2023
KY015 | Housing Authority of Newport | 12/12/2023
KY056 | Housing Authority of Springfield | 11/17/2023
KY107 | Housing Authority of Pikeville | 11/15/2023
KY169 | Laurel County Section 8 Housing | 12/22/2023
KY901 | Kentucky Housing Corporation-State Agency | 12/15/2023
LA003 | Housing Authority of East Baton Rouge | 11/15/2023
MD001 | Housing Authority of the City of Annapolis | 12/28/2023
MD006 | Hagerstown Housing Authority | 12/20/2023
MD032 | Carroll County Housing And Community Dev | 12/20/2023
ME006 | Brunswick Housing Authority | 12/21/2023
ME007 | Auburn Housing Authority | 12/14/2023
ME019 | Bath Housing Authority | 12/15/2023
ME901 | Maine State Housing Authority | 12/21/2023
MI005 | Pontiac Housing Commission | 12/28/2023
MI073 | Grand Rapids Housing Commission | 11/14/2023
MI084 | Boyne City Housing Commission | 12/20/2023
MI100 | Lapeer Housing Commission | 11/17/2023
MN090 | HRA of Red Wing, Minnesota | 11/22/2023
MN174 | Housing And Redevelopment Authority of Yellow | 12/29/2023
MO001 | St. Louis Housing Authority | 12/21/2023
MO003 | St. Joseph Housing Authority | 11/14/2023
MO004 | Housing Authority of St. Louis County | 12/21/2023
MO006 | Housing Authority of the City of St. Charles | 12/28/2023
MO007 | Housing Authority of the City of Columbia, MO | 11/14/2023
MO009 | Housing Authority of the City of Jefferson | 12/21/2023
MO017 | Independence Housing Authority | 12/28/2023
MO037 | Housing Authority of the City of West Plains | 11/17/2023
MO064 | New Madrid | 12/28/2023
MO198 | Boone County Public Housing Agency | 12/14/2023
MO199 | Lincoln County Public Housing Agency | 12/20/2023
MO203 | St. Francois County Public Housing Agency | 11/14/2023
MO206 | Phelps County Public Housing Agency | 11/14/2023
MO209 | Housing Authority of the City of Cabool | 12/20/2023
MO210 | Liberty Housing Authority | 12/19/2023
MO217 | Howell County Public Housing Agency | 11/17/2023
MS005 | The Housing Authority of the City of Biloxi | 12/15/2023
MS301 | Bay Waveland Housing Authority | 12/12/2023
MT001 | Housing Authority of Billings | 12/28/2023
MT004 | Helena Housing Authority | 10/31/2023
MT033 | Missoula Housing Authority | 12/15/2023
MT901 | Montana Department of Commerce | 10/31/2023
NC004 | Housing Authority of the City of Kinston | 11/15/2023
NC006 | Housing Authority of the City of High Point | 11/22/2023
NC012 | Housing Authority of the City of Winston-Salem | 12/12/2023
NC140 | Western Carolina Community Action, Inc | 12/28/2023
ND010 | Morton County Housing Authority | 10/31/2023
ND011 | Housing Authority of Stutsman County, ND | 11/15/2023
NE001 | Omaha Housing Authority | 12/28/2023
NE003 | Hall County Housing Authority | 12/26/2023
NE078 | Scotts Bluff County Housing Authority | 12/26/2023
NE150 | Hastings Housing Authority | 12/26/2023
NE157 | Norfolk Housing Agency | 12/28/2023
NJ032 | Rahway Housing Authority | 12/19/2023
NJ037 | Irvington Housing Authority | 12/27/2023
NV905 | Nevada Rural Hsg Auth | 12/28/2023
NY041 | Rochester Housing Authority | 12/12/2023
NY061 | Hudson Housing Authority | 12/21/2023
NY079 | Glens Falls Housing Authority | 12/19/2023
NY113 | City of New Rochelle Housing Authority | 12/28/2023
NY504 | City of Fulton | 12/28/2023
NY552 | Village of New Hartford | 12/26/2023
OH003 | Cuyahoga Metropolitan Housing Authority | 11/15/2023
OH005 | Dayton Metropolitan Housing Authority | 12/28/2023
OH006 | Lucas Metropolitan Housing Authority | 12/20/2023
OH008 | Trumbull Metropolitan Housing Authority | 11/15/2023
OH010 | Portsmouth Metropolitan Housing Authority | 11/15/2023
OH020 | Belmont Metropolitan Housing Authority | 10/31/2023
OH032 | Hocking Metropolitan Housing Authority | 12/14/2023
OH036 | Wayne Metropolitan Housing Authority | 11/22/2023
OH044 | Allen Metropolitan Housing Authority | 12/15/2023
OH046 | Adams Metropolitan Housing Authority | 12/28/2023
OH053 | Clinton Metropolitan Housing Authority | 12/14/2023
OH058 | Monroe Metropolitan Housing Authority | 12/14/2023
OH060 | Pike Metropolitan Housing Authority | 12/21/2023
OH067 | Harrison Metropolitan Housing Authority | 12/21/2023
OH077 | City of Marietta | 12/21/2023
OR027 | Housing Authority of Malheur County | 11/22/2023
PA004 | Allentown Housing Authority | 12/15/2023
PA020 | Mercer County Housing Authority | 12/28/2023
PA024 | Easton Housing Authority | 12/12/2023
PA044 | The Housing Authority of the City of Hazleton | 12/20/2023
PA052 | Housing Authority of the County of Lebanon | 12/15/2023
PA057 | Housing Authority of the County of Luzerne | 12/12/2023
PA059 | Housing Authority of the City of Oil City | 12/15/2023
PA071 | Housing Authority of the County of Berks | 11/15/2023
PA076 | Northampton County Housing Authority | 12/21/2023
PA081 | Lehigh County Housing Authority | 12/15/2023
RI005 | The Housing Authority of the City of Newport | 12/21/2023
RI901 | Rhode Island Housing | 12/20/2023
RQ005 | Formerly 901 and 911 | 12/27/2023
RQ011 | Municipality of Bayamon | 12/20/2023
RQ014 | Municipality of Carolina | 12/14/2023
RQ016 | Municipality of Guaynabo | 12/19/2023
RQ041 | Municipality of Gurabo | 12/20/2023
RQ061 | Municipality of Cabo Rojo | 12/15/2023
RQ062 | Municipality of Cidra | 12/19/2023
RQ071 | Municipality of Lajas | 12/14/2023
SC007 | Housing Authority of Aiken | 11/15/2023
SC023 | Housing Authority of Sumter | 12/14/2023
SD016 | Sioux Falls Housing And Redevelopment Commission | 12/21/2023
SD026 | Redfield Housing And Redevelopment Commission | 11/14/2023
SD035 | Pierre Housing & Redevelopment Commission | 12/14/2023
SD037 | Milbank Housing & Redevelopment Commission | 11/14/2023
SD043 | Watertown Housing And Redevelopment Commission | 11/22/2023
SD056 | Brookings Housing & Redevelopment Commission | 10/31/2023
SD057 | Mobridge Housing & Redevelopment Commission | 11/14/2023
TN066 | Bristol Housing | 11/17/2023
TN903 | Tennessee Housing Development Agency | 11/22/2023
TX455 | Housing Authority of Odessa | 12/20/2023
TX493 | Terrell Housing Authority | 10/31/2023
UT020 | Tooele County Housing Authority | 11/17/2023
UT026 | Logan City Housing Authority | 12/12/2023
UT030 | Bear River Regional Housing Authority | 12/12/2023
VA018 | Franklin Redevelopment And Housing Authority | 11/15/2023
VA032 | Abingdon Redevelopment And Housing Authority | 12/26/2023
VQ901 | Virgin Islands Housing Authority | 12/14/2023
WA003 | Housing Authority of the City of Bremerton | 12/21/2023
WA004 | Peninsula Housing Authority | 12/26/2023
WA012 | HA City of Kennewick | 10/31/2023
WA021 | HA City of Pasco And Franklin County | 10/31/2023
WA024 | HA of Island County | 12/22/2023
WA036 | Kitsap County Consolidated Housing Auth | 12/21/2023
WA055 | HA City of Spokane | 12/19/2023
WA071 | Housing Authority of Okanogan County | 12/20/2023
WI002 | Housing Authority of the City of Milwaukee | 12/20/2023
WI003 | Madison Community Development Authority | 12/15/2023
WI047 | Sheboygan Housing Authority | 12/26/2023
WI068 | Wisconsin Rapids Housing Authority | 12/14/2023
WI070 | Rhinelander Housing Authority | 11/15/2023
WI186 | Brown County Housing Authority | 10/31/2023
WI201 | CDA of the City of West Allis | 12/14/2023
WI213 | Housing Authority of Winnebago County, Wi | 12/19/2023
WI214 | Dane County Housing Authority | 12/21/2023
WI219 | Janesville Neighborhood Services | 12/14/2023
WI222 | Sawyer County Housing Authority | 12/19/2023
WI237 | Portage County Housing Authority | 11/17/2023
WI245 | Barron County Housing Authority | 12/28/2023
WI901 | Wisconsin Housing & Economic Development Authority | 12/26/2023
WV016 | Housing Authority of the City of Weirton | 11/17/2023
WV035 | Housing Authority of the County of Jackson | 12/12/2023

• Regulation: 24 CFR 982.503(b)(1)(iii).

Nature of Requirement: PHAs may request an exception payment standard of up to 120 percent of their adopted Small Area FMR exception payment standards.

Granted by: Dominique Blom, General Deputy Assistant for Public and Indian Housing.

Reason Waived: The PHAs were authorized to adopt a payment standard above the basic range, up to 120 percent of their approved Small Area FMR exception payment standards. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR exception payment standards helped ensure that families living in rental markets with ongoing fluctuations and disruptions were not adversely impacted by rapidly increasing rents, and were able to find rental units with their voucher.

Contact: Tesia Anyanaso, Office of Field Operations/Coordination and Compliance Division, Office of Public and Indian Housing, 451 Seventh St. SW, Suite 3180, Washington, DC 20410-5000, or email to PIH_Expedited_Waivers@hud.gov.

PHA code | PHA name | 2023 Extension approved
CA004 | Housing Authority of the City of Los Angeles | 12/28/2023
CA116 | Cdc of National City | 12/15/2023
CO051 | Grand Junction Housing Authority | 12/21/2023
CT003 | Housing Authority of the City of Hartford | 12/15/2023
CT039 | Housing Authority of the Town of West Hartfor | 12/26/2023
FL009 | West Palm Beach Housing Authority | 12/21/2023
IA087 | City of Dubuque | 12/19/2023
IL107 | Housing Authority of the City of North Chicago, IL | 12/29/2023
IN003 | Fort Wayne Housing Authority | 12/15/2023
IN007 | Kokomo Housing Authority | 12/20/2023
KY056 | Housing Authority of Springfield | 11/17/2023
LA012 | Housing Authority of the City of Kenner | 12/28/2023
MD022 | Housing Authority of Calvert County | 12/19/2023
MO199 | Lincoln County Public Housing Agency | 12/20/2023
MO203 | St. Francois County Public Housing Agency | 11/14/2023
MT901 | Montana Department of Commerce | 10/31/2023
NY041 | Rochester Housing Authority | 12/12/2023
NY079 | Glens Falls Housing Authority | 12/19/2023
OH003 | Cuyahoga Metropolitan Housing Authority | 11/15/2023
PA018 | Westmoreland County Hsg Authority | 12/15/2023
PA052 | Housing Authority of the County of Lebanon | 12/15/2023
RI901 | Rhode Island Housing | 12/20/2023
RQ074 | Municipality of Vieques | 12/28/2023
SC022 | Housing Authority of Rock Hill | 12/27/2023
SD016 | Sioux Falls Housing And Redevelopment Commission | 12/21/2023
TN066 | Bristol Housing | 11/17/2023
TX008 | Corpus Christi Housing Authority | 12/15/2023
VA018 | Franklin Redevelopment And Housing Authority | 11/15/2023
WA024 | HA of Island County | 12/22/2023
WI002 | Housing Authority of the City of Milwaukee | 12/20/2023

[FR Doc. 2024-20092 Filed 9-5-24; 8:45 am]

BILLING CODE 4210-67-P